DEPARTMENT OF COMMERCE

National Oceanic and Atmospheric Administration

50 CFR Part 648

[Docket No. 060314069-6069-01; I.D. 083106A]

Magnuson-Stevens Fishery Conservation and Management Act Provisions; Fisheries of the Northeastern United States; Atlantic Sea Scallop Fishery; Closure of the Closed Area II Scallop Access Area to Scallop Vessels

AGENCY: National Marine Fisheries Service (NMFS), National Oceanic and Atmospheric Administration (NOAA).

ACTION: Temporary rule; closure.

SUMMARY: NMFS announces the closure of the Closed Area II Scallop Access Area (CAII) to scallop vessels until February 28, 2007. This closure, effective 0001 hours on September 6, 2006, is based on a determination by the Regional Administrator, Northeast Region, NMFS (RA), that scallop vessels are projected to catch the yellowtail flounder (YT) bycatch total allowable catch (TAC) for CAII by September 6, 2006. Upon closure, scallop vessels are prohibited from being in CAII until February 28, 2007. This action is being taken to prevent the scallop fleet from exceeding the YT TAC allocated to CAII during the 2006 fishing year in accordance with the regulations implemented under the Atlantic Sea Scallop Fishery Management Plan (FMP), Northeast (NE) Multispecies FMP and the Magnuson-Stevens Fishery Conservation and Management Act.

DATES: The closure of CAII to all scallop vessels is effective 0001 hr local time, September 6, 2006, until February 28, 2007.

FOR FURTHER INFORMATION CONTACT: Ryan Silva, Fishery Management Specialist, (978) 281-9326, fax (978) 281-9135.

SUPPLEMENTARY INFORMATION: Commercial scallop vessels fishing in scallop access areas are allocated 9.8 percent of the annual YT TACs established in the Northeast (NE) Multispecies FMP. Given current fishing effort by scallop vessels in CAII, the RA has made a determination that the CAII YT TAC is projected to be taken by September 6, 2006. Pursuant to 50 CFR 648.60(a)(5)(ii)(C) and 648.85(c)(3)(ii), this Federal Register notice notifies scallop vessel owners that, effective 0001 hours on September 6, 2006, scallop vessels are prohibited from being in CAII until February 28, 2007.

If a vessel with a limited access scallop permit has an unused trip(s) into CAII closed by the YT TAC, it will be allocated 5.4 additional open areas DAS for each unused trip. If a vessel has an unused compensation trip(s), it will be allocated additional open area DAS based on estimated catch rates for CAII. The conversion rate from access area DAS to open area DAS for CAII is 0.45 per open area DAS. An access area DAS is equal to 682 kg (1,500 lb). A separate letter will be sent to notify vessel owners of their allocations for unused complete and/or compensation trips in CAII.

Classification

This action is required by 50 CFR part 648 and is exempt from review under Executive Order 12866.

This action closes CAII to scallop vessels until February 28, 2007. The regulations at 50 CFR 648.60(a)(5)(ii)(C) and 648.85(c)(3)(ii) require such action to ensure that scallop vessels do not take more YT than set aside for the scallop fishery. CAII opened for the 2006 fishing year on June 15, 2006. Data indicating the scallop fleet has taken, or is projected to take, all of CAII YT TAC has only recently become available. To allow scallop vessels to continue to take trips in CAII during the period necessary to publish and receive comments on a proposed rule would result in vessels taking much more YT than allocated to the scallop fleet. Excessive YT harvest from CAII would result in excessive fishing effort on the Georges Bank YT stock, where tight effort controls are critical for the rebuilding program. Should excessive fishing effort occur, future management measures may need to be more restrictive. Based on the above, under 5 U.S.C. 553(d)(3), proposed rule making is waived because it would be impracticable and contrary to the public interest to allow a period for public comment. Furthermore, for the same reasons, there is good cause under 5 U.S.C 553(d)(3) to waive the 30-day delayed effectiveness period for this action.

Authority: 16 U.S.C. 1801 et seq.

Dated: September 1, 2006.
Alan D. Risenhoover,
Director, Office of Sustainable Fisheries, National Marine Fisheries Service.

[FR Doc. 06-7513 Filed 9-5-06; 3:39 pm]

BILLING CODE 3510-22-S